DEPARTMENT OF COMMERCE

National Oceanic and Atmospheric Administration

RIN 0648-XG545

Mid-Atlantic Fishery Management Council (MAFMC); Public Meeting

AGENCY: National Marine Fisheries Service (NMFS), National Oceanic and Atmospheric Administration (NOAA), Commerce.

ACTION: Notice; public workshop.

SUMMARY: The Mid-Atlantic Fishery Management Council will hold a public workshop for the purposes of addressing law enforcement issues in for-hire fisheries operations, particularly operator versus angler (client) responsibility for fisheries violations that occur on for-hire vessels and law enforcement options for addressing these and issues related to the sale of fish by private recreational anglers (particularly golden tilefish and tunas) focusing on the need for vessels selling fish to comply with U.S. Coast Guard requirements and/or Federal permits that allow for the sale of fish.

DATES: The workshop will be held from Tuesday, November 13, 2018, from 12 noon to 5 p.m. and Wednesday, November 14, 2018, from 8:30 a.m. to 4 p.m.

ADDRESSES:

Meeting address: The workshop will be held at the Embassy Suites by Hilton Philadelphia Airport 9000 Bartram Avenue, Philadelphia, PA 19153; phone: (215) 796-6001.

This workshop has a limited number of spaces. Participants are strongly encouraged to register early so that workshop personnel can provide background information and plan accordingly. Please register at http://www.mafmc.org/workshop/law-enforcement-for-hire-workshop or email the workshop coordinator at aloftus@andrewloftus.com.

Council address: Mid-Atlantic Fishery Management Council, 800 N. State Street, Suite 201, Dover, DE 19901; telephone: (302) 674-2331; www.mafmc.org.

FOR FURTHER INFORMATION CONTACT: Andrew Loftus, Workshop Coordinator; telephone: (410) 295-5997; email: aloftus@andrewloftus.com or Christopher M. Moore, Ph.D., Executive Director, Mid-Atlantic Fishery Management Council; telephone: (302) 526-5255. The Council's website, www.mafmc.org also has details on the proposed agenda and briefing materials.

SUPPLEMENTARY INFORMATION: Fishing activity on for-hire (party and charter boats) fishing vessels generally differs from that on commercial or private recreational vessels in that the vessel operator is not the primary fisher, but is generally hired by the fisher to take them onto the water and provide access to fish. However, even though the for-hire operator may never partake in reeling in or handling the fish, they are still responsible for ensuring that their customers adhere to fishing regulations and can be subject to fines and other legal actions for violations by their customers. Operators and crew of these vessels may be faced with difficulties in tracking the fishing activities of every customer given the multiple tasks associated with safely operating the vessel and taking care of up to 40 or more passengers at a time. This may be particularly difficult when fishing is heavy and crew members are kept busy assisting many customers at any one time. The issue of whether the vessel operator should be legally responsible for infractions (intentional or unintentional) of their customer has been a long-running discussion among some in the Mid-Atlantic for-hire community.

Additionally, concerns have been expressed about the sale of golden tilefish and tuna by operators of recreational vessels that do not possess permits allowing for the sale of those species or possess Coast Guard (vessel safety) requirements for commercial vessels. High prices that can be obtained from the sale of some of these species may provide greater incentives for this to occur.

The MAFMC's Law Enforcement Committee, Tilefish Committee, and Highly Migratory Species Committee held a joint conference call on September 20, 2018 to discuss these two issues. During the call, a draft outline of agenda topics for a future workshop were discussed. Subsequently, during the MAFMC meeting on October 4, 2018, a presentation was made regarding these issues and Council members made brief remarks regarding them. Recordings of both meetings are available at the Council's website www.mafmc.org.

To address these issues further, a workshop will be held November 13-14 bringing together representatives of the federal fisheries law enforcement community (principally NOAA Fisheries and U.S. Coast Guard), representatives of state fisheries law enforcement agencies, the Mid-Atlantic for-hire community, and other interested members of the public to further refine these issues and develop potential solutions. A workshop summary and recommendations will be presented to the MAFMC during their December 2018 meeting. An agenda and background documents will be posted at the Council's website (www.mafmc.org) prior to the meeting.

Special Accommodations

The meeting is physically accessible to people with disabilities. Requests for sign language interpretation or other auxiliary aid should be directed to M. Jan Saunders, (302) 526-5251, at least 5 days prior to the meeting date.

Dated: October 23, 2018.
Tracey L. Thompson,
Acting Deputy Director, Office of Sustainable Fisheries, National Marine Fisheries Service.

[FR Doc. 2018-23444 Filed 10-25-18; 8:45 am]

BILLING CODE 3510-22-P